FEDERAL TRADE COMMISSION

16 CFR Part 437

Business Opportunity Rule

AGENCY: Federal Trade Commission.

ACTION: Notice of proposed rulemaking; extension of public comment period.

SUMMARY: The Federal Trade Commission (“FTC” or “Commission”) is extending the deadline for filing comments on its advance notice of proposed rulemaking (“ANPR”) concerning its trade regulation rule entitled the “Business Opportunity Rule”.

DATES: For the ANPR published November 25, 2022 (87 FR 72428), the comment deadline is extended from January 24, 2023, to January 31, 2023.

FOR FURTHER INFORMATION CONTACT: Melissa Dickey (202-326-2662), mdickey@ftc.gov, Attorney, Division of Marketing Practices, Bureau of Consumer Protection, Federal Trade Commission, 600 Pennsylvania Avenue NW, Washington, DC 20580.

SUPPLEMENTARY INFORMATION: On November 17, 2022, the Commission announced that it would seek public comments on whether to make changes to the Business Opportunity Rule (the “Rule”). The FTC's Regulatory Review and Request for Public Comment was subsequently published in the Federal Register, with January 24, 2023, established as the deadline for the submission of comments. See 87 FR 72428 (Nov. 25, 2022). With this publication, the Commission sought to solicit comments about the efficiency, costs, benefits, and regulatory impact of the Rule, as part of its ten-year regulatory review plan, as well as to inform its consideration of whether the Rule should be extended to include business opportunities and other money-making opportunity programs not currently covered by the Rule, including business coaching and work-from-home programs, investment coaching programs, and ecommerce opportunities.

Interested parties have subsequently requested an extension of the public comment period to give them additional time to respond to the ANPR's request for comment. The Commission agrees that allowing additional time for filing comments in response to the ANPR would help facilitate the creation of a more complete record. The Commission has therefore decided to extend the comment period for seven days, or to January 31, 2023. A seven-day extension will provide commenters adequate time to address the issues raised in the ANPR.

By direction of the Commission.
Joel Christie,
Acting Secretary.

[FR Doc. 2023-01433 Filed 1-24-23; 8:45 am]

BILLING CODE 6750-01-P